NATIONAL AERONAUTICS AND SPACE ADMINISTRATION

[Notice (10-018)]

NASA Advisory Council; Audit, Finance and Analysis Committee; Meeting

AGENCY: National Aeronautics and Space Administration.

ACTION: Notice of meeting.

SUMMARY: In accordance with the Federal Advisory Committee Act, Public Law 92-463, as amended, the National Aeronautics and Space Administration announces a meeting of the Audit, Finance and Analysis Committee of the NASA Advisory Council.

DATES: Wednesday, February 17, 2010, 9 a.m.-4 p.m. EST.

ADDRESSES: NASA Headquarters, 300 E Street, SW., Washington, DC 20456, Conference Room 8D48.

FOR FURTHER INFORMATION CONTACT: Ms. Charlene Williams, Office of the Chief Financial Officer, National Aeronautics and Space Administration Headquarters, Washington, DC 20546. Phone: 202-358-2183, fax: 202-358-4336.

SUPPLEMENTARY INFORMATION: The agenda for the meeting includes the following topics:

• Congressional testimony of Mr. Robert Hanisee, NASA Advisory Council, Audit, Finance, and Analysis Committee.

• Congressional testimony regarding FY2009 financial statement audit.

The meeting will be open to the public up to the seating capacity of the room. It is imperative that the meeting be held on this date to accommodate the scheduling priorities of the key participants. Visitors will need to show a valid picture identification such as a driver's license to enter the NASA Headquarters building (West Lobby—Visitor Control Center), and must state that they are attending the NASA Advisory Council Audit, Finance, and Analysis Committee meeting in Room 8D48. All non-U.S. citizens must fax a copy of their passport, and print or type their name, current address, citizenship, company affiliation (if applicable) to include address, telephone number, and their place of birth, date of birth, U.S. visa information to include type, number, expiration date, U.S. Social Security Number (if applicable), and place and date of entry into the U.S., fax to Charlene Williams, NASA Advisory Council Audit, Finance, and Analysis Executive Secretary at 202-358-4336, by no later than February 10, 2010. To expedite admittance, U.S. attendees can provide identifying information 3 working days in advance by contacting Ms. Charlene Williams via e-mail at Charlene.Williams-1@nasa.gov or by telephone at (202) 358-2183. Persons with disabilities who require assistance should indicate this.

Dated: January 29, 2010.
P. Diane Rausch,
Advisory Committee Management Officer, National Aeronautics and Space Administration.

[FR Doc. 2010-2278 Filed 2-2-10; 8:45 am]

BILLING CODE P